DEPARTMENT OF AGRICULTURE

Forest Service

Salmon River Canyon Project; Nez Perce National Forest, Payette National Forest, Bitteroot National Forest, Salmon/Challis National Forest, Idaho County, Idaho

AGENCY: Forest Service, USDA.

ACTION: Cancellation of an environmental impact statement. EIS No. 990413.

SUMMARY: On July 24, 1998, a notice of intent to prepare an environmental impact statement (EIS) for the Salmon River Canyon Project; Nez Perce National Forest, Payette National Forest, Bitteroot National Forest, Salmon/Challis National Forest was published in the Federal Register (63 FR 39810). The Forest Service has decided to cancel the preparation of an EIS for this proposed action. The Notice of Intent is hereby withdrawn.

FOR FURTHER INFORMATION CONTACT: Direct questions regarding this cancellation may be directed to Ken Stump, Assistant Fire Management Officer, RR 2 Box 475 Grangeville, ID 83530 or telephone 208-983-1950.

Steve E. Williams,
Acting Forest Supervisor.

[FR Doc. 04-24210 Filed 10-28-04; 8:45 am]

BILLING CODE 3410-11-M